DEPARTMENT OF THE INTERIOR

National Park Service

Multimodal Transportation Plan/Environmental Impact Statement, Arches National Park, UT

AGENCY: National Park Service, Department of the Interior.

ACTION: Notice of Intent to prepare an environmental impact statement for a Multimodal Transportation Plan, Arches National Park.

SUMMARY: Under the provisions of the National Environmental Policy Act, the National Park Service is preparing an environmental impact statement for a Multimodal Transportation Plan for Arches National Park. The environmental impact statement will be approved by the Director, Intermountain Region.

The Multimodal Transportation Plan will serve as a management and decision making tool for developing short and long-term solutions to problems associated with transportation in and around Arches National Park. The primary objectives of the plan include (1) establishing regional partnerships between the park and its gateway communities to reduce traffic impacts in both the park and surrounding communities, minimize duplication of services and facilities, and provide links to regional pathways to improve recreational opportunities in the park; (2) increasing the range of travel mode choices within the park, other than via private automobile, available to visitors, residents and employees of all ages and physical abilities; (3) provisions for safe travel throughout the park by all modes; and (4) protecting the park's natural and cultural resources from impacts attributable to vehicles and visitor use, including inappropriate parking along roadways or parking area edges, noise, air quality, and wildlife mortality.

From January, 2003 through February, 2003 the National Park Service conducted public scoping (public meetings and solicitation of comments from state, county and town agencies and organizations; park neighbors; state historic preservation officer; and associated American Indian tribes) for the Multimodal Transportation Plan in anticipation of preparing an environmental assessment for the project. Due to the degree to which potential impacts are uncertain, the National Park Service is proceeding with preparation of an environmental impact statement.

DATES: The National Park Service will conduct further public scoping for the environmental impact statement for a period of 30-days beyond publication of this Notice of Intent.

ADDRESSES: You may mail comments to: Multimodal Transportation Plan, Superintendent's Office, Arches National Park, PO Box 907, Moab, UT 84532-0907. You may also hand-deliver comments to the Superintendent's Office, Arches National Park, Moab, Utah (Attn: Multimodal Transportation Plan).

FOR FURTHER INFORMATION CONTACT: Superintendent Rock Smith, Arches National Park, PO Box 907, Moab, UT 84532-0907; Tel: (435) 719-2201; FAX: (435) 719-2305; e-mail: rock_smith@nps.gov.

SUPPLEMENTARY INFORMATION: It is the practice of the National Park Service to make comments received during the scoping process, including names and home addresses of respondents, available for public review during regular business hours. Individual respondents may request that we withhold their home address from the record, which we will honor to the extent allowable by law. If you wish us to withhold your name and/or address, you must state this prominently at the beginning of your comment. We will make all submissions from organizations or businesses, and from individuals identifying themselves as representatives or officials of organizations or businesses, available for public inspection in their entirety.

Dated: April 1, 2003.
Karen P. Wade,
Director, Intermountain Region.

[FR Doc. 03-11270 Filed 5-6-03; 8:45 am]

BILLING CODE 4312-06-P